INTERNATIONAL TRADE COMMISSION

[USITC Se-12-030]

Government in the Sunshine Act Meeting Notice

AGENCY HOLDING THE MEETING: United States International Trade Commission.

TIME AND DATE: November 14, 2012 at 11:00 a.m.

PLACE: Room 101, 500 E Street SW., Washington, DC 20436, Telephone: (202) 205-2000.

STATUS: Open to the public.

MATTERS TO BE CONSIDERED:

1. Agendas for future meetings: none

2. Minutes

3. Ratification List

4. Vote in Inv. Nos. 701-TA-482-484 and 731-TA-1191-1194 (Final)(Circular Welded Carbon-Quality Steel Pipe from India, Oman, the United Arab Emirates, and Vietnam). The Commission is currently scheduled to transmit its determinations and Commissioners' opinions to the Secretary of Commerce on or before November 28, 2012.

5. Outstanding action jackets: none

In accordance with Commission policy, subject matter listed above, not disposed of at the scheduled meeting, may be carried over to the agenda of the following meeting.

By order of the Commission.
Issued: November 7, 2012.
William R. Bishop,
Supervisory Hearings and Information Officer.

[FR Doc. 2012-27483 Filed 11-7-12; 11:15 am]

BILLING CODE 7020-02-P